DEPARTMENT OF HOMELAND SECURITY

Coast Guard

33 CFR Part 165

[Docket Number USCG-2013-0907]

RIN 1625-AA00

Safety Zones; Upper Mississippi River Between Mile 38.0 and 46.0, Thebes, IL; and Between Mile 78.0 and 81.0, Grand Tower, IL.

AGENCY: Coast Guard, DHS.

ACTION: Final rule; correction.

SUMMARY: The Coast Guard published in the Federal Register of March 5, 2015, a final rule document making final an interim rule previously published at 79 FR 66622 on November 10, 2014. The March 5 final rule incorrectly cited the interim rule as published at 77 FR 75850 on December 26, 2012. This document corrects the citation and date in that final rule to correctly reflect the proper interim rule citation and effective date.

DATES: Effective on March 18, 2015.

FOR FURTHER INFORMATION CONTACT: If you have questions on this rule, call or email LT Dan McQuate, U.S. Coast Guard; telephone 270-442-1621, email daniel.j.mcquate@uscg.mil. If you have questions on viewing or submitting material to the docket, call Cheryl F. Collins, Program Manager, Docket Operations, telephone (202) 366-9826.

SUPPLEMENTARY INFORMATION: The Coast Guard published a document in the Federal Register of March 5, 2015 making an interim rule final as published. The citation to the interim rule was published incorrectly. This correction removes the incorrect citation and amendatory instruction for 33 CFR part 165.

In rule FR Doc. 2015-03331 published on March 5, 2015 (80 FR 11885), make the following correction. On page 11887, in the third column, correct the last full paragraph of the document to read as follows: Accordingly, the interim rule amending 33 CFR part 165 that published at 79 FR 66622 on November 10, 2014, is adopted as a final rule without change.

Dated: March 12, 2015.
Katia Cervoni,
Chief, Office of Regulations and Administrative Law, U.S. Coast Guard.

[FR Doc. 2015-06174 Filed 3-17-15; 8:45 am]

BILLING CODE 9110-04-P